POSTAL SERVICE

39 CFR Part 20

Cigarettes and Smokeless Tobacco—Prohibited in All Outbound and Inbound International Mail; Correction

AGENCY: Postal Service™.

ACTION: Final rule; correction.

SUMMARY: The Postal Service published in the Federal Register of June 22, 2010, a final rule pertaining to the international mailing of inbound and outbound tobacco cigarettes and smokeless tobacco with an incorrect effective date. This document corrects that effective date.

DATES: Effective Date: The correct effective date is June 29, 2010.

FOR FURTHER INFORMATION CONTACT: Rick Klutts at 813-877-0372.

SUPPLEMENTARY INFORMATION: The Postal Service published a final rule in the Federal Register on June 22, 2010 (75 FR 35302), adding a new section 136.4 to the International Mail Manual (IMM®), which is incorporated by reference in 39 CFR part 20, that provides that cigarettes (including roll-your-own tobacco) and smokeless tobacco products are nonmailable when sent in outbound or inbound international mail. That final rule contained an erroneous effective date of August 2, 2010. This document corrects the effective date to June 29, 2010.

Dated: June 23, 2010.
Neva R. Watson,
Attorney, Legislative.

[FR Doc. 2010-15811 Filed 6-28-10; 8:45 am]

BILLING CODE 7710-12-P